DEPARTMENT OF JUSTICE

Bureau of Alcohol, Tobacco, Firearms and Explosives

[OMB Number 1140-0018]

Agency Information Collection Activities; Proposed eCollection eComments Requested; Application for Federal Firearms License—ATF F 7(5310.12)/7 CR (5310.16)

AGENCY: Bureau of Alcohol, Tobacco, Firearms and Explosives, Department of Justice.

ACTION: 60-day notice.

SUMMARY: The Department of Justice (DOJ), Bureau of Alcohol, Tobacco, Firearms and Explosives (ATF), will submit the following information collection request to the Office of Management and Budget (OMB) for review and approval in accordance with the Paperwork Reduction Act of 1995. The proposed information collection OMB 1140-0018 (Application for Federal Firearms License—ATF Form 7 (5310.12) is being revised and combined with OMB 1140-0038 (Application for Federal Firearms License (Collector of Curios and Relics)—ATF Form 7 CR (5310.16); thereby eliminating the need for a separate application form for Type 03, Collector of Curios and Relics FFL (1140-0038). The proposed information collection is also being published to obtain comments from the public and affected agencies.

DATES: Comments are encouraged and will be accepted for 60 days until October 24, 2016.

FOR FURTHER INFORMATION CONTACT: If you have additional comments especially on the estimated public burden or associated response time, suggestions, or need a copy of the proposed information collection instrument with instructions or additional information, please contact Tracey Robertson, Chief, Federal Firearms Licensing Center, 244 Needy Road, Martinsburg, WV 25405 or via email at: tracey.robertson@atf.gov. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of this information collection:

1. Type of Information Collection (check justification or form OMB 83-I): Revision of a currently approved collection.

2. The Title of the Form/Collection: Application for Federal Firearms License.

3. The agency form number, if any, and the applicable component of the Department sponsoring the collection:

Form number (if applicable): ATF F 7(5310.12)/7 CR (5310.16).

Component: Bureau of Alcohol, Tobacco, Firearms and Explosives, U.S. Department of Justice.

4. Affected public who will be asked or required to respond, as well as a brief abstract:

Primary: Businesses or other for-profit.

Other (if applicable): Individuals or households.

Abstract: The law of 18 U.S.C. 923(a)(1), requires a person wishing to transport, ship, or receive firearms in interstate or foreign commerce to pay a fee, to file an application and to obtain a license before engaging in business. ATF F 5310.12/7 CR 5310.16 will be for the purpose of ensuring this collection of information is necessary to insure that the person who wishes to be licensed as required by section 923 meets the requirements of the section for the license. Additionally, this form will be used by the public when applying for a Federal firearms license to collect curios and relics to facilitate a personal collection in interstate and foreign commerce. The information requested on the form establishes eligibility for all license types.

5. An estimate of the total number of respondents and the amount of time estimated for an average respondent to respond: An estimated 15,000 respondents will take 60 minutes to complete the form.

6. An estimate of the total public burden (in hours) associated with the collection: The estimated annual public burden associated with this collection is 15,000 hours.

If additional information is required contact: Jerri Murray, Department Clearance Officer, United States Department of Justice, Justice Management Division, Policy and Planning Staff, Two Constitution Square, 145 N Street NE., Room 3E-405B, Washington, DC 20530.

Dated: August 17, 2016.
Jerri Murray,
Department Clearance Officer for PRA, U.S. Department of Justice.

[FR Doc. 2016-20051 Filed 8-22-16; 8:45 am]

BILLING CODE 4410-40-P